DEPARTMENT OF HOMELAND SECURITY

Coast Guard

33 CFR Part 100

[Docket No. USCG-2024-0246]

Special Local Regulations; Annual Marine Events Within the Eighth Coast Guard District; Riverfest Power Boat Races

AGENCY: Coast Guard, DHS.

ACTION: Notification of enforcement of regulation.

SUMMARY: The Coast Guard will enforce special local regulations for the RiverFest Power Boat Races on the Neches River in Port Neches, TX, from May 3, 2024 through May 5, 2024, to provide for the safety of life on navigable waterways during this event. Our regulation for annual marine events within the Eighth Coast Guard District identifies the regulated area for this event in Port Neches, TX. During the enforcement periods, the operator of any vessel in the regulated area must comply with directions from the Patrol Commander.

DATES: The regulations in 33 CFR 100.801, Table 3, Line 4 will be enforced from 2 through 6 p.m. on May 3, 2024, and from 8:30 a.m. through 6 p.m. on May 4 and 5, 2024.

FOR FURTHER INFORMATION CONTACT: If you have questions about this notification of enforcement, call or email LCDR Kimberly Gates, Marine Safety Unit Port Arthur, U.S. Coast Guard; 571-610-1924, email Kimberly.M.Gates@uscg.mil.

SUPPLEMENTARY INFORMATION: The Coast Guard will enforce special local regulations in 33 CFR 100.801 Table 3, Line 4, for the RiverFest Power Boat Races from 2 through 6 p.m. on May 3, 2024, and from 8:30 a.m. through 6 p.m. on May 4 and May 5, 2024. This action is being taken to provide for the safety of life on navigable waterways during this three-day event. Our regulations for marine events within the Eighth Coast Guard District, § 100.801, specifies the location of the regulated areas for the RiverFest Power Boat Races which encompasses portions of the Neches River adjacent to Port Neches Park. During the enforcement period, as reflected in § 100.80,1 if you are the operator of a vessel in the regulated area you must comply with directions from the designated Patrol Commander.

In addition to this notice of enforcement in the Federal Register, the Coast Guard plans to provide notification of the enforcement periods via Local Notice to Mariners, Marine Safety Information Bulletin, and Vessel Traffic Service Advisory.

Dated: April 24, 2024.
Anthony R. Migliorini,
Captain, U.S. Coast Guard, Captain of the Port Marine Safety Zone Port Arthur.

[FR Doc. 2024-09253 Filed 4-29-24; 8:45 am]

BILLING CODE 9110-04-P